DEPARTMENT OF AGRICULTURE

Food and Nutrition Service

Child and Adult Care Food Program: National Average Payment Rates, Day Care Home Food Service Payment Rates, and Administrative Reimbursement Rates for Sponsoring Organizations of Day Care Homes for the Period July 1, 2021 Through June 30, 2022

AGENCY: Food and Nutrition Service, Agriculture (USDA).

ACTION: Notice.

SUMMARY: This notice announces the annual adjustments to the national average payment rates for meals and snacks served in child care centers, outside-school-hours care centers, at-risk afterschool care centers, and adult day care centers; the food service payment rates for meals and snacks served in day care homes; and the administrative reimbursement rates for sponsoring organizations of day care homes, to reflect changes in the Consumer Price Index. Further adjustments are made to these rates to reflect the higher costs of providing meals in Alaska and Hawaii. The adjustments contained in this notice are made on an annual basis each July, as required by the laws and regulations governing the Child and Adult Care Food Program.

DATES: These rates are effective from July 1, 2021 through June 30, 2022.

FOR FURTHER INFORMATION CONTACT: J. Kevin Maskornick, Branch Chief, Program Monitoring and Operational Support Division, (703) 305-2537, Child Nutrition Programs, Food and Nutrition Service, United States Department of Agriculture, 1320 Braddock Place, Suite 401, Alexandria, Virginia 22314.

SUPPLEMENTARY INFORMATION:

Background

Pursuant to sections 4, 11, and 17 of the Richard B. Russell National School Lunch Act (42 U.S.C. 1753, 1759a and 1766), section 4 of the Child Nutrition Act of 1966 (42 U.S.C. 1773) and 7 CFR 226.4, 226.12 and 226.13 of the Program regulations, notice is hereby given of the new payment rates for institutions participating in the Child and Adult Care Food Program (CACFP). As provided for under the law, all rates in the CACFP must be revised annually, on July 1, to reflect changes in the Consumer Price Index (CPI), published by the Bureau of Labor Statistics of the United States Department of Labor, for the most recent 12-month period. These rates are in effect during the period July 1, 2021 through June 30, 2022.

Adjusted Payments

The following national average payment factors and food service payment rates for meals and snacks are in effect from July 1, 2021 through June 30, 2022. All amounts are expressed in dollars or fractions thereof. Due to a higher cost of living, the reimbursements for Alaska and Hawaii are higher than those for all other States. The District of Columbia, Virgin Islands, Puerto Rico, and Guam use the figures specified for the contiguous States. These rates do not include the value of USDA Foods or cash-in-lieu of USDA Foods, which institutions receive as additional assistance for each lunch or supper served to participants under the Program. A notice announcing the value of USDA Foods and cash-in-lieu of USDA Foods is published separately in the Federal Register.

Adjustments to the national average payment rates for all meals served under the Child and Adult Care Food Program are rounded down to the nearest whole cent.

National Average Payment Rates for Centers

The changes in the national average payment rates for centers reflect a 4.04 percent increase during the 12-month period from May 2020 to May 2021 (from 291.709 in May 2020, as previously published in the Federal Register, to 303.481 in May 2021) in the food away from home series of the CPI for All Urban Consumers.

Payments for breakfasts served are: Contiguous States—paid rate—33 cents (1 cent increase from 2020-2021 annual level), reduced price rate—1 dollar and 67 cents (8 cents increase), free rate—1 dollar and 97 cents (8 cents increase); Alaska—paid rate—50 cents (1 cent increase), reduced price rate—2 dollars and 85 cents (12 cents increase), free rate—3 dollars and 15 cents (12 cents increase); Hawaii—paid rate—38 cents (1 cent increase), reduced price rate—1 dollar and 99 cents (8 cents increase), free rate—2 dollars and 29 cents (8 cents increase).

Payments for lunch or supper served are: Contiguous States—paid rate—35 cents (2 cents increase from 2020-2021 annual level), reduced price rate—3 dollars and 26 cents (15 cents increase), free rate—3 dollars and 66 cents (15 cents increase); Alaska—paid rate—57 cents (3 cents increase), reduced price rate—5 dollars and 54 cents (24 cents increase), free rate—5 dollars and 94 cents (24 cents increase); Hawaii—paid rate—41 cents (2 cents increase), reduced price rate—3 dollars and 88 cents (17 cents increase), free rate—4 dollars and 28 cents (17 cents increase).

Payments for snack served are: Contiguous States—paid rate—9 cents (1 cent change from 2020-2021 annual level), reduced price rate—50 cents (2 cents increase), free rate—1 dollar (4 cents increase); Alaska—paid rate—14 cents (no change), reduced price rate—81 cents (3 cents increase), free rate—1 dollar and 63 cents (7 cents increase); Hawaii—paid rate—10 cents (no change), reduced price rate—58 cents (2 cents increase), free rate—1 dollar and 17 cents (4 cents increase).

Food Service Payment Rates for Day Care Homes

The changes in the food service payment rates for day care homes reflect a 0.67 percent increase during the 12-month period from May 2020 to May 2021 (from 253.827 in May 2020, as previously published in the Federal Register, to 255.516 in May 2021) in the food at home series of the CPI for All Urban Consumers.

Payments for breakfast served are: Contiguous States—Tier I—1 dollar and 40 cents (1 cent increase from 2020-2021 annual level) and Tier II—51 cents (1 cent increase); Alaska—Tier I—2 dollars and 23 cents (1 cent increase) and Tier II—79 cents (1 cent increase); Hawaii—Tier I—1 dollar and 63 cents (1 cent increase) and Tier II—58 cents (no change).

Payments for lunch and supper served are: Contiguous States—Tier I—2 dollars and 63 cents (2 cents increase from 2020-2021 annual level) and Tier II—1 dollar and 59 cents (1 cent increase); Alaska—Tier I—4 dollars and 26 cents (2 cents increase) and Tier II—2 dollars and 57 cents (2 cents increase); Hawaii—Tier I—3 dollars and 8 cents (2 cents increase) and Tier II—1 dollar and 86 cents (2 cents increase).

Payments for snack served are: Contiguous States—Tier I—78 cents (no change from 2020-2021 annual level) and Tier II—21 cents (no change); Alaska—Tier I—1 dollar and 27 cents (1 cent increase) and Tier II—35 cents (no change); Hawaii—Tier I—91 cents (no change) and Tier II—25 cents (no change).

Administrative Reimbursement Rates for Sponsoring Organizations of Day Care Homes

The changes in the administrative reimbursement rates for sponsoring organizations of day care homes reflect a 4.99 percent increase during the 12-month period, May 2020 to May 2021 (from 256.394 in May 2019, as previously published in the Federal Register, to 269.195 in May 2021) in the series for all items of the CPI for All Urban Consumers.

Monthly administrative payments to sponsors for each sponsored day care home are: Contiguous States—Initial 50 homes—126 dollars (6 dollars increase from 2020-2021 annual level), next 150 homes—96 dollars (5 dollars increase), next 800 homes—75 dollars (4 dollars increase), each additional home—66 dollars (3 dollars increase); Alaska—Initial 50 homes—204 dollars (10 dollars increase), next 150 homes—155 dollars (7 dollars increase), next 800 homes—121 dollars (5 dollars increase), each additional home—107 dollars (5 dollars increase); Hawaii—Initial 50 homes—147 dollars (7 dollars increase), next 150 homes—112 dollars (5 dollars increase), next 800 homes—88 dollars (4 dollars increase), each additional home—77 dollars (4 dollars increase).

Payment Chart

The following chart illustrates the national average payment factors and food service payment rates for meals and snacks in effect from July 1, 2021 through June 30, 2022.

Child and Adult Care Food Program (CACFP)
[Per meal rates in whole or fractions of U.S. dollars; effective from July 1, 2021-June 30, 2022]
Centers | Breakfast | Lunch and supper 1 | Supplement
CONTIGUOUS STATES:
PAID | 0.33 | 0.35 | 0.09
REDUCED PRICE | 1.67 | 3.26 | 0.05
FREE | 1.97 | 3.66 | 1.00
ALASKA:
PAID | 0.50 | 0.57 | 0.14
REDUCED PRICE | 2.85 | 5.54 | 0.81
FREE | 3.15 | 5.94 | 1.63
HAWAII:
PAID | 0.38 | 0.41 | 0.10
REDUCED PRICE | 1.99 | 3.88 | 0.58
FREE | 2.29 | 4.28 | 1.17

Day care homes | Breakfast: Tier I | Breakfast: Tier II | Lunch and supper: Tier I | Lunch and supper: Tier II | Supplement: Tier I | Supplement: Tier II
CONTIGUOUS STATES | 1.40 | 0.51 | 2.63 | 1.59 | 0.78 | 0.21
ALASKA | 2.23 | 0.79 | 4.26 | 2.57 | 1.27 | 0.35
HAWAII | 1.63 | 0.58 | 3.08 | 1.86 | 0.91 | 0.25

Administrative reimbursement rates for sponsoring organizations of day care homes (per home/per month rates in U.S. dollars) | Initial 50 | Next 150 | Next 800 | Each additional
CONTINGUOUS STATES | 126 | 96 | 75 | 66
ALASKA | 204 | 155 | 121 | 107
HAWAII | 147 | 112 | 88 | 77
1 These rates do not include the value of USDA Foods or cash-in-lieu of USDA Foods which institutions receive as additional assistance for each CACFP lunch or supper served to participants. A notice announcing the value of USDA Foods and cash-in-lieu of USDA Foods is published separately in the Federal Register.

This action is not a rule as defined by the Regulatory Flexibility Act (5 U.S.C. 601-612) and thus is exempt from the provisions of that Act. This notice has been determined to be exempt under Executive Order 12866.

CACFP is listed in the Catalog of Federal Domestic Assistance under No. 10.558 and is subject to the provisions of Executive Order 12372, which requires intergovernmental consultation with State and local officials. (See 2 CFR 415.3-415.6).

This notice imposes no new reporting or recordkeeping provisions that are subject to OMB review in accordance with the Paperwork Reduction Act of 1995 (44 U.S.C. 3501-3518).

Authority: Sections 4(b)(2), 11a, 17(c) and 17(f)(3)(B) of the Richard B. Russell National School Lunch Act (42 U.S.C. 1753(b)(2), 1759a, 1766(f)(3)(B)) and section 4(b)(1)(B) of the Child Nutrition Act of 1966 (42 U.S.C. 1773(b)(1)(B)).

Cynthia Long,
Acting Administrator, USDA Food and Nutrition Service.

[FR Doc. 2021-14435 Filed 7-6-21; 8:45 am]

BILLING CODE 3410-30-P